DEPARTMENT OF LABOR

Occupational Safety and Health Administration

29 CFR Part 1926

[Docket No. S-030]

RIN 1218-AC01

Safety Standards for Cranes and Derricks

AGENCY: Occupational Safety and Health Administration (OSHA), U.S. Department of Labor.

ACTION: Notice of first meeting of Negotiated Rulemaking Committee.

SUMMARY: The Occupational Safety and Health Administration (OSHA) announces the first meeting of the Crane and Derrick Negotiated Rulemaking Advisory Committee (C-DAC). Members will be sworn in; the committee will be charged with its duties and will address certain procedural matters and substantive issues. The meeting will be open to the public.

DATES: The meeting will be on July 30, 31, and August 1, 2003. It will begin each day at 8:30 a.m.

ADDRESSES: The meeting will be held at The U.S. Department of Labor, 200 Constitution Avenue, NW., Washington, DC 20210 in conference room N3437 A, B and C.

Written comments to the committee may be submitted in any of three ways: by mail, by fax, or by email. Please include “Docket No. S-030” on all submissions.

By mail, the address is: OSHA Docket Office, Docket No. S-030, U.S. Department of Labor, 200 Constitution Avenue, NW., Room N-2625, Washington, DC 20210, telephone (202) 693-2350. Note that receipt of comments submitted by mail may be delayed by several weeks.

By fax, written comments that are 10 pages or fewer may be transmitted to the OSHA Docket Office at telephone number (202) 693-1648.

Electronically, comments may be submitted through OSHA's Webpage at http://ecomments.osha.gov. Please note that you may not attach materials such as studies or journal articles to your electronic comments. If you wish to include such materials, you must submit three copies to the OSHA Docket Office at the address listed above. When submitting such materials to the OSHA Docket Office, clearly identify your electronic comments by name, date, subject, and Docket Number, so that we can attach the materials to your electronic comments.

FOR FURTHER INFORMATION CONTACT: Michael Buchet, Office of Construction Standards and Guidance, Occupational Safety and Health Administration, U.S. Department of Labor, Room N-3468, 200 Constitution Avenue, NW., Washington, DC 20210; Telephone: (202) 693-2345.

Table of Contents

I. Background

II. Agenda

III. Anticipated Key Issues for Negotiation

IV. Public Participation

V. Supplementary Information

V. Authority

I. Background

On July 16, 2002, OSHA published a notice of intent to establish a negotiated rulemaking committee (Volume 67 of the Federal Register, page 46612). The notice requested nominations for membership on the C-DAC and comments on the appropriateness of using negotiated rulemaking to develop a proposed rule for cranes and derricks used in construction. In addition, the notice described the negotiated rulemaking process and identified some key issues anticipated to be addressed in the negotiation.

Fifty-five nominations for membership on the Committee and several comments were received during the comment period. There was broad support for using negotiated rulemaking to update the standard and OSHA decided to go forward with the negotiated rulemaking process. On June 12, 2003 the Department of Labor published a notice establishing the Committee (Volume 68 of the Federal Register, page 35172).

II. Agenda

Following registration, assembly and a welcome by the Agency, the Facilitator will offer a brief overview of negotiated rulemaking and then address the matters that must be resolved by the Committee at its first meeting, including adoption of ground rules. These are the procedural rules that the Committee will use for conducting the meetings. In addition there will be discussion of a tentative list of C-DAC workgroups.

The Facilitator will initiate discussions on identifying the substantive issues to be addressed by C-DAC. OSHA requests that committee members and all interested parties bring their calendars to facilitate the development of a tentative schedule of committee and workgroup meetings.

III. Anticipated Key Issues for Negotiation

OSHA anticipates that key issues to be addressed as part of these negotiations will include:

1. The identification/description of what constitutes “cranes and derricks” for purposes of determining the equipment that will be covered by the proposed rule.

2. Qualifications of individuals who operate, maintain, repair, assemble, and disassemble cranes and derricks.

3. Work zone control.

4. Crane operations near electric power lines.

5. Qualifications of signal-persons and communication systems and requirements.

6. Load capacity and control procedures.

7. Wire rope criteria.

8. Crane inspection/certification records.

9. Rigging procedures.

10. Requirements for fail-safe, warning, and other safety-related devices/technologies.

11. Verification criteria for the structural adequacy of crane components.

12. Stability testing requirements.

13. Blind pick procedures.

IV. Public Participation

All interested parties are invited to attend this public meeting at the time and place indicated above. No advanced registration is required. Seating will be available to the public on a first-come, first-served basis. Individuals with disabilities wishing to attend should contact Luz DelaCruz by Telephone at 202-693-2020 or by Fax at 202-693-1689 to obtain appropriate accommodations no later than Tuesday, July 22, 2003. The C-DAC meeting is expected to last two and a half days.

In addition, members of the general public may request an opportunity to make oral presentations to the Committee. The Facilitator has the authority to decide to what extent oral presentations by members of the public may be permitted at the meeting. Oral presentations will be limited to statements of fact and views, and shall not include any questioning of the committee members or other participants. Questions, answers and a less formal exchange is encouraged in the workgroup sessions.

The procedural requirements in Part 1912 of Title 29 of the Code of Federal Regulations will apply generally to C-DAC meetings. The reporting requirements of § 1912.33 have been changed pursuant to § 1912.42 to help meet the special needs of negotiated rulemaking committees. Specifically, § 1912.33 requires that verbatim transcripts be kept of all advisory committee meetings. Producing a coherent transcript requires a certain degree of formality. The Assistant Secretary therefore has determined pursuant to § 1912.42 that such formality might interfere with the free exchange of information and ideas during the negotiations, and that the OSH Act would be better served by simply requiring detailed minutes of the proceedings without a formal transcript.

Minutes of the meetings and materials prepared for the Committee will be available for public inspection at the OSHA Docket Office, N-2625, 200 Constitution Ave., NW., Washington, DC 20210; Telephone (202) 693-2350.

The Facilitator, Susan Podziba, can be reached at Susan Podziba and Associates, 21 Orchard Road, Brookline, MA 02445; Telephone (617) 738-5320, Fax (617) 738-6911.

VI. Authority

This document was prepared under the direction of John L. Henshaw, Assistant Secretary of Labor for Occupational Safety and Health, U.S. Department of Labor, 200 Constitution Avenue, NW., Washington, DC 20210, pursuant to section 3 of the Negotiated Rulemaking Act of 1990, (5 U.S.C. 561 et seq.), the Federal Advisory Committee Act (5 U.S.C. Appendix 2), the Occupational Safety and Health Act of 1970 (29 U.S.C. 651 et seq.), and Secretary of Labor's Order No. 5-2002 (67 FR 65008).

Signed at Washington, DC, this 27 day of June, 2003.
John L. Henshaw,
Assistant Secretary of Labor for Occupational Safety and Health.

[FR Doc. 03-16871 Filed 7-2-03; 8:45 am]

BILLING CODE 4510-26-P